Title 3—

The President

Proclamation 8998 of July 19, 2013

Captive Nations Week, 2013

By the President of the United States of America

A Proclamation

As citizens of the oldest democracy on earth, we believe that all people are created equal with certain inalienable rights, including life, liberty, and the pursuit of happiness. Together, we have kept that most basic promise shining bright for more than two centuries—upholding civil rights and expanding their reach, advancing freedom's march and widening the circle of opportunity for all.

Our commitment to universal rights is also a foundation for American leadership abroad. In the course of our Nation's history, countries worldwide have pledged themselves to a Universal Declaration of Human Rights. Corrupt dictatorships have given way to new democracies, forcing out the stale air of authoritarian rule with a fresh breath of freedom.

We know that work is not yet complete. Even as the light of liberty and justice has spread across the globe, too many people still labor in the darkness of tyranny and oppression. In too many parts of the world, fundamental freedoms remain unrealized, and the protections of law extend only to a privileged few.

Captive Nations Week is an opportunity to reaffirm America's role in advancing human rights worldwide. It is a task that can begin here, with the example we set and the understanding that we are stronger when all our people are granted opportunity—no matter what they look like, where they worship, or who they love. And it can continue by extending a hand to those who reach for freedom abroad. Different peoples will determine their own paths. But we must reject the notion that those who live in distant places do not yearn for freedom, self-determination, dignity, and the rule of law, just as we do.

When President Dwight D. Eisenhower first marked this day, he noted that it should recur “until such time as freedom and independence shall have been achieved for all the captive nations of the world.” We have come a long way since then—but despite our progress, that time has not yet come. So let us keep striving to bring it about—supporting those who seek the same freedoms we enjoy as Americans, and extending the blessings of peace and prosperity here at home and around the world.

The Congress, by joint resolution approved July 17, 1959 (73 Stat. 212), has authorized and requested the President to issue a proclamation designating the third week of July of each year as “Captive Nations Week.”

NOW, THEREFORE, I, BARACK OBAMA, President of the United States of America, do hereby proclaim July 21 through July 27, 2013, as Captive Nations Week. I call upon the people of the United States to reaffirm our deep ties to all governments and people committed to freedom, dignity, and opportunity for all.

IN WITNESS WHEREOF, I have hereunto set my hand this nineteenth day of July, in the year of our Lord two thousand thirteen, and of the Independence of the United States of America the two hundred and thirty-eighth.

[FR Doc. 2013-17956

Filed 7-23-13; 11:15 am]

Billing code 3295-F3